DEPARTMENT OF EDUCATION

[Catalog of Federal Domestic Assistance (CFDA) Number: 84.215N]

Extension of the Application Deadline Date for the Fiscal Year 2016; Promise Neighborhoods Program Grant Application

AGENCY: Office of Innovation and Improvement, Department of Education.

ACTION: Notice.

SUMMARY: The Assistant Deputy Secretary for Innovation and Improvement extends, for certain prospective eligible applicants described elsewhere in this notice, the deadline date for transmittal of applications for new awards for fiscal year (FY) 2016 under the Promise Neighborhoods program. The Assistant Deputy Secretary takes this action to allow more time for the preparation and submission of applications by prospective eligible applicants in Louisiana affected by the severe storms and flooding that began in that State on August 11, 2016. The extension of the application deadline date for this competition is intended to help affected eligible applicants compete fairly with other eligible applicants under this competition.

Dates:

Deadline for Transmittal of Applications: September 16, 2016.

Deadline for Intergovernmental Review: October 31, 2016.

SUPPLEMENTARY INFORMATION: On July 8, 2016, we published in the Federal Register (81 FR 44741) a notice inviting applications for new awards for FY 2016 for the Promise Neighborhoods competition. We are extending this competition to allow certain prospective eligible applicants more time to prepare and submit their applications.

Eligibility: The extension of the application deadline date in this notice applies to eligible applicants under the Promise Neighborhoods program that are (1) located in a Federally-declared disaster area, as determined by the Federal Emergency Management Agency (FEMA) (see http://www.fema.gov/news/disasters.fema); and (2) adversely affected by the severe storms and flooding in Louisiana that began on August 11, 2016.

In accordance with the application notice, an eligible organization for the Promise Neighborhoods program—

(1) Is representative of the geographic area proposed to be served;

(2) Is one of the following:

(a) A nonprofit organization that meets the definition of a nonprofit under 34 CFR 77.1(c), which may include a faith-based nonprofit organization.

(b) An institution of higher education as defined by section 101(a) of the Higher Education Act of 1965, as amended.

(c) An Indian tribe as defined in the application notice for this competition published by us in the Federal Register on July 8, 2016 (81 FR 44741);

(3) Currently provides at least one of the solutions from the applicant's proposed continuum of solutions in the geographic area proposed to be served; and

(4) Operates or proposes to work with and involve in carrying out its proposed project, in coordination with the school's LEA, at least one public elementary or secondary school located within the identified geographic area that the grant will serve.

In the case of an eligible applicant that is a partnership, the extension of the application deadline date applies if any entity required to be part of the partnership (e.g., a nonprofit organization, an LEA, or a consortium of schools) are located in a Federally-declared disaster area, as determined by FEMA, and adversely affected by the severe storms and flooding in Louisiana that began on August 11, 2016.

An eligible applicant submitting an application under the extended deadline in this notice must provide in its application a certification that it meets the criteria for an extension and be prepared to provide appropriate supporting documentation, if requested. If such an eligible applicant is submitting its application electronically, the submission of the application serves as the eligible applicant's attestation that it meets the criteria for submitting an application under the extended deadline.

Note: Except for the deadline date, all information in the application notice for this competition remains the same.

Program Authority: Fund for the Improvement of Education, title V, part D, subpart 1, sections 5411 through 5413 of the Elementary and Secondary Education Act of 1965, as amended by the No Child Left Behind Act of 2001 (20 U.S.C. 7243-7243b).

FOR FURTHER INFORMATION CONTACT: Adrienne Hawkins, U.S. Department of Education, 400 Maryland Avenue SW., Room 4W256, Washington, DC 20202. Telephone: (202) 453-5638. Email address: PromiseNeighborhoods@ed.gov.

If you use a telecommunications device for the deaf (TDD) or a text telephone (TTY), call the Federal Relay Service (FRS), toll free, at 1-800-877-8339.

Accessible Format: Individuals with disabilities can obtain this document and a copy of the application package in an accessible format (e.g., braille, large print, audiotape, or compact disc) on request to the program contact persons listed under FOR FURTHER INFORMATION CONTACT in this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: August 25, 2016.
Nadya Chinoy Dabby,
Assistant Deputy Secretary for Innovation and Improvement.

[FR Doc. 2016-21001 Filed 8-30-16; 8:45 am]

BILLING CODE 4000-01-P